DEPARTMENT OF COMMERCE

Foreign-Trade Zones Board

[Docket 21-2006]

Foreign-Trade Zone 99 - Wilmington, Delaware, Expansion of Manufacturing Authority—Subzone 99E, The Premcor Refining Group Inc., Delaware City, Delaware

An application has been submitted to the Foreign-Trade Zones Board (the Board) by the Delaware Economic Development Office, grantee of FTZ 99, requesting authority on behalf of The Premcor Refining Group Inc. (Premcor), to expand the scope of manufacturing activity conducted under zone procedures within Subzone 99E at the Premcor oil refinery complex in Delaware City, Delaware. The application was submitted pursuant to the provisions of the Foreign-Trade Zones Act, as amended (19 U.S.C. 81a-81u), and the regulations of the Board (15 CFR part 400). It was formally filed on May 31, 2006.

Subzone 99E (152,000 BPD capacity 2,450 employees) was approved by the Board in 1996 for the manufacture of fuel products and certain petrochemical feedstocks and refinery by-products (Board Order 831, 61 FR 33490, 6/27/96, as amended by Board Order 1116, 65 FR 52696, 8/30/00).

The refinery complex (1,800 acres) consists of a main refinery/petrochemical plant, storage tanks and a marine terminal, located at 2000 Wrangle Hill Road, Delaware City in Newcastle County, Delaware, some 35 miles south of Philadelphia.

The expansion request involves an expansion of the crude throughput at the refinery due to increased efficiencies, improvements in equipment reliability and longer cycles between turnarounds to increase the overall crude distillation capacity of the refinery to 180,000 BPD. No additional feedstocks or products have been requested.

Zone procedures would exempt the increased production from customs duty payments on the foreign products used in its exports. On domestic sales, the company would be able to choose the customs duty rates for certain petrochemical feedstocks (duty-free) by admitting foreign crude oil in non-privileged foreign status. The application indicates that the savings from zone procedures help improve the refinery's international competitiveness.

In accordance with the Board's regulations, a member of the FTZ staff has been appointed examiner to investigate the application and report to the Board.

Public comment is invited from interested parties. Submissions (original and 3 copies) shall be addressed to the Board's Executive Secretary at the address below. The closing period for their receipt is August 14, 2006. Rebuttal comments in response to material submitted during the foregoing period may be submitted during the subsequent 15-day period to August 28, 2006.

A copy of the application and accompanying exhibits will be available for public inspection at each of the following locations:

U.S. Department of Commerce Export Assistance Center, The Curtis Center, Suite 580 West, Independence Square West, Philadelphia, PA 19106.

Office of the Executive Secretary, Foreign-Trade Zones Board, U.S. Department of Commerce, Room 1115, 1401 Constitution Ave. NW., Washington, DC 20230.

Dated: May 31, 2006.
Dennis Puccinelli,
Executive Secretary.

[FR Doc. E6-9288 Filed 6-13-06; 8:45 am]

BILLING CODE 3510-DS-S